DEPARTMENT OF TRANSPORTATION

Federal Aviation Administration

14 CFR Part 39

[Docket No. FAA-2024-2321; Project Identifier MCAI-2024-00126-A]

RIN 2120-AA64

Airworthiness Directives; DAHER AEROSPACE (Type Certificate Previously Held by SOCATA) Airplanes

AGENCY: Federal Aviation Administration (FAA), DOT.

ACTION: Notice of proposed rulemaking (NPRM).

SUMMARY: The FAA proposes to adopt a new airworthiness directive (AD) for certain DAHER AEROSPACE (DAHER) (type certificate previously held by SOCATA) Model TBM 700 airplanes. This proposed AD was prompted by reports of wear of the inner flap actuator drive nut. This proposed AD would require cleaning and lubricating the internal actuator rods, measuring the play between the drive nuts and the internal actuator rods, and if any play is found, replacing the drive nuts. This proposed AD would also allow replacing the drive nuts with certain other design drive nut as terminating action for the proposed requirements. The FAA is proposing this AD to address the unsafe condition on these products.

DATES: The FAA must receive comments on this NPRM by November 14, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2321; or in person at Docket Operations between 9 a.m. and 5 p.m., Monday through Friday, except Federal holidays. The AD docket contains this NPRM, the mandatory continuing airworthiness information (MCAI), any comments received, and other information. The street address for Docket Operations is listed above.

Material Incorporated by Reference:

• For DAHER AEROSPACE material identified in this proposed AD, contact DAHER AEROSPACE, Customer Support, Airplane Business Unit, Tarbes Cedex 9, France; phone: (833) 826-2273; email: tbmcare@daher.com; website: daher.com.

• You may view this material at the FAA, Airworthiness Products Section, Operational Safety Branch, 901 Locust, Kansas City, MO 64106. For information on the availability of this material at the FAA, call (817) 222-5110.

FOR FURTHER INFORMATION CONTACT: Fred Guerin, Aviation Safety Engineer, FAA, 1600 Stewart Avenue, Suite 410, Westbury, NY 11590; phone: (206) 231-2346; email: fred.guerin@faa.gov.

SUPPLEMENTARY INFORMATION:

Comments Invited

The FAA invites you to send any written relevant data, views, or arguments about this proposal. Send your comments to an address listed under ADDRESSES. Include “Docket No. FAA-2024-2321; Project Identifier MCAI-2024-00126-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Fred Guerin, Aviation Safety Engineer, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued EASA AD 2013-0104R3, dated February 20, 2024 (also referred to as the MCAI), to correct an unsafe condition on all DAHER AEROSPACE Model TBM 700 airplanes that do not have DAHER Modification (MOD) 70-0777-27 embodied in production. The MCAI states that wear of the inner flap actuator drive nut was detected, which could result in improper play between the actuator threaded rod and the drive nut with potential loss of flap control and consequent reduced or loss of control of the airplane. The MCAI requires cleaning and lubricating the internal actuator rods, measuring the play between the drive nuts and the internal actuator rods, and if any play is found, replacing the drive nuts. The MCAI also allows replacing the drive nuts with newly designed drive nuts as terminating action for the repetitive cleaning, lubricating, and measuring for play.

You may examine the MCAI in the AD docket at regulations.gov under Docket No. FAA-2024-2321.

Material Incorporated by Reference Under 1 CFR Part 51

The FAA reviewed Daher Aerospace Service Bulletin SB 70-118 Revision 3, dated December 2023. This material specifies procedures for cleaning and lubricating the internal actuator rods, measuring the play between the drive nut and the internal actuator rods, and replacing the drive nut. This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI and material referenced above. The FAA is issuing this NPRM after determining that the unsafe condition described previously is likely to exist or develop on other products of the same type design.

Proposed AD Requirements in This NPRM

This proposed AD would require accomplishing the actions specified in the material already described.

Costs of Compliance

The FAA estimates that this AD, if adopted as proposed, would affect 807 airplanes of U.S. registry.

The FAA estimates the following costs to comply with this proposed AD:

Estimated Costs
Action | Labor cost | Parts cost | Cost per product | Cost on U.S. operators
Clean and lubricate left-hand (LH) and right-hand (RH) internal actuator rods | 1 work-hour × $85 per hour = $85, per cleaning and lubricating cycle | $0 | $85 | $68,595 per cleaning and lubricating cycle.
Measure the play for the LH and RH drive nuts | 1 work-hour × $85 per hour = $85, per measurement cycle | 0 | $85 per measurement cycle | $68,595 per measurement cycle.

If, during any proposed measurement for play, no discrepancy is found, operators have the option to replace the LH and RH drive nuts. If, during any proposed measuring for play, any discrepancy is found, the LH and RH drive nuts must be replaced. Replacing the LH and RH drive nuts would be terminating action for the proposed repetitive cleaning, lubricating, and measuring play. The FAA estimates the following costs for replacing the LH and RH drive nuts:

On-Condition Costs
Action | Labor cost | Parts cost | Cost per product
Replace drive nuts | 4 work-hours × $85 per hour = $340 | $200 | $540

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

DAHER AEROSPACE (Type Certificate Previously Held by SOCATA): Docket No. FAA-2024-2321; Project Identifier MCAI-2024-00126-A.

(a) Comments Due Date

The FAA must receive comments on this airworthiness directive (AD) by November 14, 2024.

(b) Affected ADs

None.

(c) Applicability

This AD applies to DAHER AEROSPACE (type certificate previously held by SOCATA) Model TBM 700 airplanes, all serial numbers, certificated in any category except those with DAHER Modification (MOD) 70-0777-27 installed during production.

(d) Subject

Joint Aircraft System Component (JASC) Code 2750, TE Flap Control System; 2752, TE Flap Actuator.

(e) Unsafe Condition

This AD was prompted by reports of wear of the inner flap actuator drive nut. The FAA is issuing this AD to prevent wear of the drive nut threading on the internal actuator flaps. The unsafe condition, if not addressed, could result in improper play between the actuator threaded rod and the drive nut, which could result in loss of flap control, resulting in reduced or loss of control of the airplane.

(f) Compliance

Comply with this AD within the compliance times specified, unless already done.

(g) Required Actions

(1) Clean and lubricate the left-hand (LH) and right-hand (RH) inner actuator rods in accordance with Paragraph C. in the Description of Accomplishment Instructions of Daher Aerospace Service Bulletin SB 70-118 Revision 3, dated December 2023 (Daher SB 70-118) within the compliance times identified in paragraph (g)(1)(i) or (ii) of this AD, whichever occurs later.

(i) Before the accumulation of 400 hours time-in-service (TIS) or 12 months, whichever occurs first, since the first installation of a LH and RH inner flap actuator, and thereafter at intervals not to exceed 400 hours TIS or 12 months, whichever occurs first.

(ii) Within 10 hours TIS after the effective date of this AD and thereafter at intervals not to exceed 400 hours TIS or 12 months, whichever occurs first.

(2) Within the compliance time identified in paragraph (g)(2)(i) or (ii) of this AD, whichever occurs later, and thereafter, at intervals not to exceed 400 hours TIS or 12 months, whichever occurs first, for each inner flap actuator, measure the play between the drive nut and the internal actuator rod in accordance with Section A, Paragraphs (1) through (9), in the Description of Accomplishment Instructions of Daher SB 70-118. Where Section A, Paragraph (3), in the Description of Accomplishment Instructions of Daher SB 70-118 specifies “With the help of a second operator” this AD requires this action be performed by persons authorized under 14 CFR 43.3.

(i) 3,000 hours TIS since first installation of the inner flap actuator on your airplane.

(ii) 400 hours TIS or 12 months, whichever occurs first since the last play measurement accomplished for that inner flap actuator in accordance with Section A, Paragraphs (1) through (9), in the Description of Accomplishment Instructions of Daher SB 70-118.

(3) If, during any measurement required by paragraph (g)(2) of this AD, any play is found, as identified in Section A, Paragraphs (8)(b) and (9)(b), of the Description of Accomplishment Instructions, Daher SB 70-118, before further flight, accomplish the applicable corrective actions in accordance with Section A, Paragraphs (10) through (15) and (17), and Section C, Paragraph (1), in the Description of Accomplishment Instructions of Daher SB 70-118. Where Section B, Paragraph (4), in the Description of Accomplishment Instructions of Daher SB 70-118, specifies to discard an old drive nut, this AD requires removing the old drive nut from service.

(4) If, during any measurement as required by paragraph (g)(2) of this AD, no play is found, as identified in Section A, Paragraphs (8)(a) and (9)(a), in the Description of Accomplishment Instructions of Daher SB 70-118, before further flight, accomplish the actions in accordance with Section A, Paragraphs (13) through (15) and (17), and Section C, Paragraph (1), in the Description of Accomplishment Instructions of Daher SB 70-118.

(h) Terminating Action

Replacing the drive nuts in accordance with Section B, Paragraphs (1) through (10), in the Description of Accomplishment Instructions of Daher SB 70-118, constitutes terminating action for all of the actions required by paragraphs (g)(1) and (2) of this AD, provided, after that replacement, no LH flap actuator having part number (P/N) 1-5295-B or RH flap actuator having P/N 2-5295-B is installed. Where Section B, Paragraph (4) in the Description of Accomplishment Instructions of Daher SB 70-118, specifies to discard an old drive nut, this AD requires removing the old drive nut from service.

(i) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (j) of this AD or email to: AMOC@faa.gov. If mailing information, also submit information by email. Before using any approved AMOC, notify your appropriate principal inspector, or lacking a principal inspector, the manager of the local Flight Standards District Office/certificate holding district office.

(j) Additional Information

For more information about this AD, contact Fred Guerin, Aviation Safety Engineer, FAA, 1600 Stewart Avenue, Suite 410, Westbury, NY 11590; phone: (206) 231-2346; email: fred.guerin@faa.gov.

(k) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Daher Aerospace Service Bulletin SB 70-118, Revision 3, dated December 2023.

(ii) [Reserved]

(3) For DAHER AEROSPACE material identified in this AD, contact DAHER AEROSPACE, Customer Support, Airplane Business Unit, Tarbes Cedex 9, France; phone: (833) 826-2273; email: tbmcare@daher.com; website: daher.com.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on September 24, 2024.
Victor Wicklund,
Deputy Director, Compliance & Airworthiness Division, Aircraft Certification Service.

[FR Doc. 2024-22209 Filed 9-27-24; 8:45 am]

BILLING CODE 4910-13-P